FEDERAL HOUSING FINANCE AGENCY

[No. 2009-N-04]

Federal Home Loan Bank Members Selected for Community Support Review

AGENCY: Federal Housing Finance Agency.

ACTION: Notice.

SUMMARY: The Federal Housing Finance Agency (FHFA) is announcing the Federal Home Loan Bank (Bank) members it has selected for the 2008-09 fifth quarter review cycle under the FHFA's community support requirements regulation. This notice also prescribes the deadline by which Bank members selected for review must submit Community Support Statements to FHFA.

DATES: Bank members selected for the review cycle under the FHFA's community support requirements regulation must submit completed Community Support Statements to FHFA on or before June 15, 2009.

ADDRESSES: Bank members selected for the 2008-09 fifth quarter review cycle under the FHFA's community support requirements regulation must submit completed Community Support Statements to FHFA either by hard-copy mail at the Federal Housing Finance Agency, Housing Mission and Goals, 1625 Eye Street, NW., Washington, DC 20006, or by electronic mail at LENORA.MORTON@FHFA.GOV.

FOR FURTHER INFORMATION CONTACT: Lenora Morton, Administrative Specialist, Housing Mission and Goals, Federal Housing Finance Agency, by telephone at 202/408-2819, by electronic mail at LENORA.MORTON@FHFA.GOV, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, FHFA selects approximately one-eighth of the members in each Bank district for community support review each calendar quarter. 12 CFR 944.2(a). FHFA will not review an institution's community support performance until it has been a Bank member for at least one year. Selection for review is not, nor should it be construed as, any indication of either the financial condition or the community support performance of the member.

Each Bank member selected for review must complete a Community Support Statement and submit it to FHFA by the June 15, 2009 deadline prescribed in this notice. 12 CFR 944.2(b)(1)(ii) and (c). On or before May 15, 2009, each Bank will notify the members in its district that have been selected for the 2008-09 fifth quarter community support review cycle that they must complete and submit to FHFA by the deadline a Community Support Statement. 12 CFR 944.2(b)(2)(i). The member's Bank will provide a blank Community Support Statement Form, which also is available on the FHFA's Web site: http://www.fhfa.gov. Upon request, the member's Bank also will provide assistance in completing the Community Support Statement.

FHFA has selected the following members for the 2008-09 fifth quarter community support review cycle:

Federal Home Loan Bank of Boston—District 1
People's United Bank | Bridgeport | Connecticut.
Farmington Savings Bank | Farmington | Connecticut.
Patrons Mutual Insurance Company of Connecticut | Glastonbury | Connecticut.
Castle Bank & Trust Company | Meriden | Connecticut.
Liberty Bank | Middletown | Connecticut.
Naugatuck Savings Bank | Naugatuck | Connecticut.
Citizens National Bank | Putnam | Connecticut.
The Simsbury Bank and Trust Company, Inc. | Simsbury | Connecticut.
Windsor Federal Savings and Loan Association | Windsor | Connecticut.
Down East Credit Union | Baileyville | Maine.
Ocean Communities Federal Credit Union | Biddeford | Maine.
Peopleschoice Credit Union | Biddeford | Maine.
The First, N.A | Damariscotta | Maine.
Savings Bank of Maine | Gardiner | Maine.
Machias Savings Bank | Machias | Maine.
Katahdin Federal Credit Union | Millinocket | Maine.
Tremont Credit Union | Braintree | Massachusetts.
HarborOne Credit Union | Brockton | Massachusetts.
Hanscom Federal Credit Union | Burlington | Massachusetts.
Everett Credit Union | Everett | Massachusetts.
Workers' Credit Union | Fitchburg | Massachusetts.
Framingham Co-operative Bank | Framingham | Massachusetts.
Dean Co-operative Bank | Franklin | Massachusetts.
Benjamin Franklin Bank | Franklin | Massachusetts.
Greenfield Savings Bank | Greenfield | Massachusetts.
UMass Five College Federal Credit Union | Hadley | Massachusetts.
Pentucket Five Cents Savings Bank | Haverhill | Massachusetts.
Economy Co-operative Bank | Merrimac | Massachusetts.
Mayflower Co-operative Bank | Middleboro | Massachusetts.
Millbury Federal Credit Union | Millbury | Massachusetts.
First Citizens' Federal Credit Union | New Bedford | Massachusetts.
North Shore Bank | Peabody | Massachusetts.
Berkshire Bank | Pittsfield | Massachusetts.
The Pittsfield Cooperative Bank | Pittsfield | Massachusetts.
Central Bank | Somerville | Massachusetts.
Savers Co-operative Bank | Southbridge | Massachusetts.
Stoneham Bank—A Co-operative Bank | Stoneham | Massachusetts.
Martha's Vineyard Savings Bank | Tisbury | Massachusetts.
Family First Bank | Ware | Massachusetts.
Westfield Bank | Westfield | Massachusetts.
Winthrop Federal Credit Union | Winthrop | Massachusetts.
Connecticut River Bank N.A | Charlestown | New Hampshire.
Claremont Savings Bank | Claremont | New Hampshire.
Triangle Credit Union | Nashua | New Hampshire.
Sugar River Bank | Newport | New Hampshire.
Lake Sunapee Bank, FSB | Newport | New Hampshire.
Piscataqua Savings Bank | Portsmouth | New Hampshire.
Service Credit Union | Portsmouth | New Hampshire.
Washington Trust Company | Westerly | Rhode Island.
The Bank of Bennington | Bennington | Vermont.
Heritage Family Credit Union | Rutland | Vermont.
Passumpsic Savings Bank | St. Johnsbury | Vermont.

Federal Home Loan Bank of New York—District 2
American Bank of New Jersey | Bloomfield | New Jersey.
Clifton Savings Bank, S.L.A | Clifton | New Jersey.
The National Bank of Elmer | Elmer | New Jersey.
Sussex Bank | Franklin | New Jersey.
Ocwen Federal Bank FSB | Ft. Lee | New Jersey.
First Hope Bank, N.A | Hope | New Jersey.
Magyar Bank | New Brunswick | New Jersey.
Lusitania Savings Bank, FSB | Newark | New Jersey.
Roebling Bank | Roebling | New Jersey.
Parke Bank | Sewell | New Jersey.
Monroe Savings Bank, SLA | Williamstown | New Jersey.
Franklin Bank | Woodstown | New Jersey.
Community Capital Bank | Brooklyn | New York.
Fulton Savings Bank | Fulton | New York.
The Citizens National Bank of Hammond | Hammond | New York.
Bank of Holland | Holland | New York.
Astoria Federal Savings & Loan Association | Lake Success | New York.
Pittsford Federal Credit Union | Mendon | New York.
First Federal Savings of Middletown | Middletown | New York.
Amalgamated Bank | New York | New York.
United Orient Bank | New York | New York.
Ponce De Leon Federal Bank | New York | New York.
Banco Popular North America | New York | New York.
The Bank of Castile | Perry | New York.
Northfield Bank | Staten Island | New York.

Federal Home Loan Bank of Pittsburgh—District 3
Citicorp Trust Bank, FSB | Newark | Delaware.
Wilmington Savings Fund Society, FSB | Wilmington | Delaware.
C & G Savings Bank | Altoona | Pennsylvania.
Ambler Savings Bank | Ambler | Pennsylvania.
First Star Savings Bank | Bethlehem | Pennsylvania.
First FS&LA of Bucks County | Bristol | Pennsylvania.
Alliance Bank | Broomall | Pennsylvania.
Sharon Savings Bank | Darby | Pennsylvania.
ESB Bank | Ellwood City | Pennsylvania.
Ephrata National Bank | Ephrata | Pennsylvania.
County Savings Bank | Essington | Pennsylvania.
Fox Chase Bank | Hatboro | Pennsylvania.
Hatboro Federal Savings | Hatboro | Pennsylvania.
William Penn Bank, FSB | Levittown | Pennsylvania.
Lock Haven Area Federal Credit Union | Lock Haven | Pennsylvania.
First Keystone Bank | Media | Pennsylvania.
Nesquehoning Savings Bank | Nesquehoning | Pennsylvania.
Third Federal Savings Bank | Newtown | Pennsylvania.
Malvern Federal Savings Bank | Paoli | Pennsylvania.
First Savings Bank of Perkasie | Perkasie | Pennsylvania.
Washington Savings Association | Philadelphia | Pennsylvania.
Second FS&LA of Philadelphia | Philadelphia | Pennsylvania.
Pennsylvania Business Bank | Philadelphia | Pennsylvania.
Asian Bank | Philadelphia | Pennsylvania.
Progressive Home FS&LA | Pittsburgh | Pennsylvania.
QNB Bank | Quakertown | Pennsylvania.
Mercer County State Bank | Sandy Lake | Pennsylvania.
North Penn Bank | Scranton | Pennsylvania.
Penn Security Bank and Trust Company | Scranton | Pennsylvania.
Slovenian S&LA of Canonsburg, Pa | Strabane | Pennsylvania.
First National Bank of Chester County | West Chester | Pennsylvania.
Stonebridge Bank | West Chester | Pennsylvania.
First State Bank | Barboursville | West Virginia.
First Century Bank, N.A | Bluefield | West Virginia.
Pioneer Community Bank | Laeger | West Virginia.
Centra Bank, Inc | Morgantown | West Virginia.
Bank of Mount Hope, Inc | Mount Hope | West Virginia.
Community Bank of Parkersburg | Parkersburg | West Virginia.
First Central Bank, Inc | Philippi | West Virginia.
BCBank, Inc | Philippi | West Virginia.
First Neighborhood Bank, Inc | Spencer | West Virginia.
Pleasants County Bank | St. Marys | West Virginia.
Poca Valley Bank | Walton | West Virginia.
MCNB Bank & Trust | Welch | West Virginia.
WesBanco Bank Wheeling | Wheeling | West Virginia.
The First National Bank of Williamson | Williamson | West Virginia.

Federal Home Loan Bank of Atlanta—District 4
Alamerica Bank | Birmingham | Alabama.
Legacy Community Federal Credit Union | Birmingham | Alabama.
First Bank | Wadley | Alabama.
Covington County Bank | Andalusia | Alabama.
United Bank | Atmore | Alabama.
Cullman Savings Bank | Cullman | Alabama.
The Citizens Bank | Enterprise | Alabama.
EvaBank | Eva | Alabama.
Alabama Teachers Credit Union | Gadsden | Alabama.
New South Federal Savings Bank | Irondale | Alabama.
Merchants Bank | Jackson | Alabama
Farmers & Merchants Bank | Lafayette | Alabama.
Capstone Bank | McIntosh | Alabama.
Community Spirit Bank | Red Bay | Alabama.
Valley State Bank | Russellville | Alabama.
Sweet Water State Bank | Sweet Water | Alabama.
SouthFirst Bank | Sylacauga | Alabama.
The First National Bank of Talladega | Talladega | Alabama.
First United Security Bank | Thomasville | Alabama.
First State Bank of Bibb County | West Biocton | Alabama.
City First Bank of D.C., N.A | Washington | District of Columbia.
Bank of Bonifay | Bonifay | Florida.
Power Financial Credit Union | Hialeah | Florida.
Orlando National Bank | Longwood | Florida.
Space Coast Credit Union | Melbourn | Florida.
MidFlorida Federal Credit Union | Mulberry | Florida.
LandMark Bank of Florida | Sarasota | Florida.
First Home Bank | Seminole | Florida.
Gulfstream Business Bank | Stuart | Florida.
Priority One Credit Union of Florida | Sunrise | Florida.
Bay Cities Bank | Tampa | Florida.
First Citrus Bank | Tampa | Florida.
Citrus and Chemical Bank | Bartow | Florida.
Mackinac Savings Bank, FSB | Boynton Beach | Florida.
Flagship National Bank | Bradenton | Florida.
First Bank of Clewiston | Clewiston | Florida.
Olde Cypress Community Bank | Clewiston | Florida.
First National Bank of Crestview | Crestview | Florida.
Regent Bank | Davie | Florida.
Dunnellon State Bank | Dunnellon | Florida.
Landmark Bank, N.A | Fort Lauderdale | Florida.
Premier Community Bank of S.W. Florida | Fort Myers | Florida.
First City Bank of Florida | Fort Walton Beach | Florida.
Desjardins Bank, National Association | Hallandale | Florida.
Florida Community Bank | Immokalee | Florida.
The Bank of Inverness | Inverness | Florida.
Community First Credit Union of Florida | Jacksonville | Florida.
First Guaranty Bank and Trust Company | Jacksonville | Florida.
Community National Bank of Mid-Florida | Lake Mary | Florida.
Publix Employees Federal Credit Union | Lakeland | Florida.
Sterling Bank | Lantana | Florida.
First Federal Savings Bank of Florida | Live Oak | Florida.
Eastern National Bank | Miami | Florida.
Helm Bank | Miami | Florida.
Terrabank, N.A | Miami | Florida.
TotalBank | Miami | Florida.
Tropical Financial Credit Union | Miami | Florida.
Pelican National Bank | Naples | Florida.
Friends Bank | New Smyrna Beach | Florida.
American National Bank | Oakland Park | Florida.
Big Lake National Bank | Okeechobee | Florida.
Pinnacle Bank | Orange City | Florida.
CNL Bank | Orlando | Florida.
Peoples First Community Bank | Panama City | Florida.
Pen Air Federal Credit Union | Pensacola | Florida.
The Citizens Bank of Perry | Perry | Florida.
Century Bank, a Federal Savings Bank | Sarasota | Florida.
Sarasota Coastal Credit Union | Sarasota | Florida.
United Bank of the Gulf Coast | Sarasota | Florida.
Heartland National Bank | Sebring | Florida.
Highlands Independent Bank | Sebring | Florida.
Eastern Financial Florida Credit Union | South Florida | Florida.
Raymond James Bank, FSB | St. Petersburg | Florida.
Florida Commerce Credit Union | Tallahassee | Florida.
MacDill Federal Credit Union | Tampa | Florida.
First National Bank | Tarpon Springs | Florida.
United Southern Bank | Umatilla | Florida.
Marine Bank and Trust | Vero Beach | Florida.
Security Bank & Trust Company of Albany | Albany | Georgia.
Cherokee Bank, National Association | Canton | Georgia.
Security Bank of Jones County | Gray | Georgia.
Jasper Banking Company | Jasper | Georgia.
Southern Bank | Sardis | Georgia.
Citizens Bank of Effingham | Springfield | Georgia.
Sea Island Employees Credit Union | St. Simons Island | Georgia.
Montgomery Bank & Trust | Ailey | Georgia.
Citizens Trust Bank | Atlanta | Georgia.
Georgia Banking Company | Atlanta | Georgia.
Piemont Bank of Georgia | Atlanta | Georgia.
First Bank of Georgia | Augusta | Georgia.
United Community Bank | Blairsville | Georgia.
First National Bank of Georgia | Buchanan | Georgia.
Cohutta Banking Company | Chatsworth | Georgia.
Bank of Chickamauga | Chickamauga | Georgia.
Citizens & Merchants State Bank | Douglasville | Georgia.
The Peoples Bank | Eatonton | Georgia.
Pinnacle Bank | Elberton | Georgia.
The Farmers Bank | Forsyth | Georgia.
Gainesville Bank and Trust | Gainesville | Georgia.
First Citizens Bank | Glennville | Georgia.
South Georgia Bank | Glennville | Georgia.
Delta Employees Credit Union | Hapeville | Georgia.
SunMark Community Bank | Hawkinsville | Georgia.
Community Trust Bank | Hiram | Georgia.
Community Bank of Pickens County | Jasper | Georgia.
Commercial Bank & Trust Co. of Troup County | LaGrange | Georgia.
Northeast Georgia Bank | Lavonia | Georgia.
Peoples Bank | Lithonia | Georgia.
The Community Bank | Loganville | Georgia.
Rivoli Bank & Trust | Macon | Georgia.
F&M Bank and Trust Company | Manchester | Georgia.
Lockheed Georgia Employees' FCU | Marietta | Georgia.
The Merchants and Citizens Bank | McRae | Georgia.
The National Bank of Walton County | Monroe | Georgia.
Newnan Coweta Bank | Newnan | Georgia.
Family Bank | Pelham | Georgia.
The Citizens National Bank of Quitman | Quitman | Georgia.
Wilcox County State Bank | Rochelle | Georgia.
Citizens First Bank | Rome | Georgia.
Farmers and Merchants Community Bank | Senoia | Georgia.
Community Bank of the South | Smyrna | Georgia.
Cumberland National Bank | St. Marys | Georgia.
Sea Island Bank | Statesboro | Georgia.
Quantum National Bank | Suwanee | Georgia.
First Community Bank of Tifton | Tifton | Georgia.
South Georgia Banking Company | Tifton | Georgia.
Citizens Bank & Trust | Trenton | Georgia.
Durden Banking Company, Inc | Twin City | Georgia.
First State Bank & Trust Company of Valdosta | Valdosta | Georgia.
Robins Federal Credit Union | Warner Robins | Georgia.
Farmers and Merchants Bank | Washington | Georgia.
First Piedmont Bank | Winder | Georgia.
Bay-Vanguard Federal Savings Bank | Baltimore | Maryland.
Hull Federal Savings Bank | Baltimore | Maryland.
Ideal Federal Savings Bank | Baltimore | Maryland.
State Employees Credit Union of Maryland | Baltimore | Maryland.
Vigilant Federal Savings Bank | Baltimore | Maryland.
TMB Federal Credit Union | Cabin John | Maryland.
Cecil Bank | Elkton | Maryland.
The Back and Middle River Federal | Essex | Maryland.
Susquehanna Bank | Hagerstown | Maryland.
FedChoice FCU | Lanham | Maryland.
North Arundel Savings Bank, FSB | Pasadena | Maryland.
Provident State Bank, Inc | Preston | Maryland.
Eagle Bank | Bethesda | Maryland.
Comstar Federal Credit Union | Clarksburg | Maryland.
United Bank & Trust—Washtenaw | Ann Arbor | Michigan.
Cornerstone Bank | Wilson | North Carolina
Randolph Bank & Trust Company | Asheboro | North Carolina.
Mechanics and Farmers Bank | Durham | North Carolina
Gateway Bank & Trust Company | Elizabeth City | North Carolina.
Macon Bank | Franklin | North Carolina.
Carolina Bank | Greensboro | North Carolina.
Hertford Savings Bank, SSB | Hertford | North Carolina.
The Little Bank, Inc | Kinston | North Carolina.
Industrial Federal Savings Bank | Lexington | North Carolina.
Lexington State Bank | Lexington | North Carolina.
First Savings and Loan Association | Mebane | North Carolina.
American Community Bank | Monroe | North Carolina.
Mount Gilead Savings and Loan Association | Mount Gilead | North Carolina.
State Employees' Credit Union | Raleigh | North Carolina.
Taylorsville Savings Bank, SSB | Taylorsville | North Carolina.
Anson Bank & Trust Company | Wadesboro | North Carolina.
Waccamaw Bank | Whiteville | North Carolina.
Cooperative Bank | Wilmington | North Carolina.
Emery Federal Credit Union | Cincinnati | Ohio.
Citizens Bank of Pennsylvania | Philadelphia | Pennsylvania.
First Reliance Bank | Florence | South Carolina.
Heritage Trust Federal Credit Union | North Charleston | South Carolina.
People's Community Bank of S.C | Aiken | South Carolina.
Home Federal Savings and Loan Association | Bamberg | South Carolina.
Florence National Bank | Florence | South Carolina.
Bank of Greeleyville | Greeleyville | South Carolina.
GrandSouth Bank | Greenville | South Carolina.
Countybank | Greenwood | South Carolina.
Greer State Bank | Greer | South Carolina.
First National Bank of South Carolina | Holly Hill | South Carolina.
Kingstree Federal Savings & Loan Association | Kingstree | South Carolina.
The Bank of Clarendon | Manning | South Carolina.
Southcoast Community Bank | Mt. Pleasant | South Carolina.
Anderson Brothers Bank | Mullins | South Carolina.
Pickens Savings & Loan Association, F.A | Pickens | South Carolina.
Bank of Travelers Rest | Travelers Rest | South Carolina.
Access National Bank | Chantilly | Virginia.
The Bank of Lancaster | Kilmarnock | Virginia.
Bank of the James | Lynchburg | Virginia.
The Farmers Bank | Windsor | Virginia.
Napus Federal Credit Union | Alexandria | Virginia.
The Blue Grass Valley Bank | Blue Grass | Virginia.
The Bank of Southside Virginia | Carson | Virginia.
Second Bank & Trust | Culpeper | Virginia.
Apple Federal Credit Union | Fairfax | Virginia.
Imperial Savings and Loan Association | Martinsville | Virginia.
Navy Federal Credit Union | Merrifield | Virginia.
Bank of the Commonwealth | Norfolk | Virginia.
Lee Bank and Trust Company | Pennington Gap | Virginia.
The Marathon Bank | Winchester | Virginia.
Nicolet National Bank | Green Bay | Wisconsin.

Federal Home Loan Bank of Cincinnati—District 5
Wilson & Muir Bank and Trust Company | Bardstown | Kentucky.
Town & Country Bank and Trust Company | Bardstown | Kentucky.
Bank of Cadiz and Trust Company | Cadiz | Kentucky.
Bank of Columbia | Columbia | Kentucky.
The Harrison Deposit Bank and Trust Company | Cynthiana | Kentucky.
Kentucky Neighborhood Bank | Elizabethtown | Kentucky.
The Peoples Bank of Kentucky | Flemingsburg | Kentucky.
Farmers Bank | Hardinsburg | Kentucky.
Hancock Bank and Trust Company | Hawesville | Kentucky.
Peoples Bank & Trust Company of Hazard | Hazard | Kentucky.
Heritage Bank | Hopkinsville | Kentucky.
Planters Bank, Inc | Hopkinsville | Kentucky.
Bank of Jamestown | Jamestown | Kentucky.
THE BANK—Oldham County, Inc | LaGrange | Kentucky.
Leitchfield Deposit Bank and Trust Company | Leitchfield | Kentucky.
Central Bank & Trust Company, Inc | Lexington | Kentucky.
L&N Federal Credit Union | Louisville | Kentucky.
Farmers Bank & Trust of Marion | Marion | Kentucky.
Monticello Banking Company | Monticello | Kentucky.
South Central Bank of Daviess County, Inc | Owensboro | Kentucky.
The Salt Lick Deposit Bank | Owingsville | Kentucky.
Blue Grass Federal Savings and Loan Association | Paris | Kentucky.
First Commonwealth Bank of Prestonsburg, Inc | Prestonsburg | Kentucky.
Belpre Savings Bank | Belpre | Ohio.
The Farmers Citizens Bank | Bucyrus | Ohio.
First Federal Savings and Loan Assoc. of Centerburg | Centerburg | Ohio.
The Citizens NB of Chillicothe | Chillicothe | Ohio.
Eagle Savings Bank | Cincinnati | Ohio.
Union Savings Bank | Cincinnati | Ohio.
First Community Bank | Columbus | Ohio.
Conneaut Savings Bank | Conneaut | Ohio.
The Corn City State Bank | Deshler | Ohio.
CF Bank | Fairlawn | Ohio.
The Fort Jennings State Bank | Fort Jennings | Ohio.
The Hamler State Bank | Hamler | Ohio.
The Settlers Bank, Inc | Marietta | Ohio.
The Fahey Banking Company of Marion | Marion | Ohio.
Sun Federal Credit Union | Maumee | Ohio.
Vinton County National Bank | McArthur | Ohio.
Citizens National Bank of McConnelsville | McConnelsville | Ohio.
The American Savings Bank | Middletown | Ohio.
First National Bank | Orrville | Ohio.
The Republic Banking Company | Republic | Ohio.
Mutual Federal Savings Bank | Sidney | Ohio.
The Peoples Savings and Loan Company | West Liberty | Ohio.
The Union Banking Company | West Mansfield | Ohio.
Farmers State Bank | West Salem | Ohio.
The Wilmington Savings Bank | Wilmington | Ohio.
Brighton Bank | Brighton | Tennessee.
Community First Bank & Trust | Columbia | Tennessee.
Highland Federal Savings and Loan Association | Crossville | Tennessee.
Security Federal Bank | Elizabethton | Tennessee.
The Lauderdale County Bank | Halls | Tennessee.
Carroll Bank & Trust | Huntingdon | Tennessee.
The Farmers Bank of Lynchburg | Lynchburg | Tennessee.
Peoples Bank of East Tennessee | Madisonville | Tennessee.
First National Bank | Manchester | Tennessee.
The Coffee County Bank | Manchester | Tennessee.
Memphis Area Teachers' Credit Union | Memphis | Tennessee.
Johnson County Bank | Mountain City | Tennessee.
National Bank of Newport | Newport | Tennessee.
Home Banking Company | Selmer | Tennessee.

Federal Home Loan Bank of Indianapolis—District 6
|  | '>
DeKalb Financial Credit Union | Auburn | Indiana.
Bedford Federal Savings Bank | Bedford | Indiana.
FCN Bank | Brookville | Indiana.
United Fidelity Bank, FSB | Evansville | Indiana.
Fowler State Bank | Fowler | Indiana.
Freedom Bank | Huntington | Indiana.
First Federal Savings Bank | Huntington | Indiana.
Campbell & Fetter Bank | Kendallville | Indiana.
United Community Bank | Lawrenceburg | Indiana.
Merchants Bank of Indiana | Lynn | Indiana.
River Valley Financial Bank | Madison | Indiana.
Markle Bank | Markle | Indiana.
First State Bank of Middlebury | Middlebury | Indiana.
Citizens Financial Bank | Munster | Indiana.
Your Community Bank | New Albany | Indiana.
Ameriana Bank, SB | New Castle | Indiana.
American Trust FSB | Peru | Indiana.
Spencer County Bank | Santa Claus | Indiana.
Jackson County Bank | Seymour | Indiana.
SCB Bank | Shelbyville | Indiana.
Terre Haute Savings Bank | Terre Haute | Indiana.
Homestead Savings Bank | Albion | Michigan.
Michigan Commerce Bank | Ann Arbor | Michigan.
Charlevoix State Bank | Charlevoix | Michigan.
Dearborn Federal Savings Bank | Dearborn | Michigan.
Detroit Commerce Bank | Detroit | Michigan.
Option 1 Credit Union | Grand Rapids | Michigan.
PAC Federal Credit Union | Hamtramck | Michigan.
Paragon Bank & Trust | Holland | Michigan.
Firstbank-Lakeview | Lakeview | Michigan.
Capital National Bank | Lansing | Michigan.
NuUnion Credit Union | Lansing | Michigan.
Independent Bank—South Michigan | Leslie | Michigan.
State Savings Bank | Manistique | Michigan.
Mason State Bank | Mason | Michigan.
Community Federal Members Credit Union | Plymouth | Michigan.
Team One Credit Union | Saginaw | Michigan.
Sidney State Bank | Sidney | Michigan.
Flagstar Bank, FSB | Troy | Michigan.
Firstbank—West Branch | West Branch | Michigan.

Federal Home Loan Bank of Chicago—District 7
Andalusia Community Bank | Andalusia | Illinois.
Village Bank and Trust Arlington Heights | Arlington Heights | Illinois.
Heartland Bank & Trust Company | Bloomington | Illinois.
Peoples Bank of Kankakee County | Bourbonnais | Illinois.
Bridgeview Bank Group | Bridgeview | Illinois.
United Trust Bank | Bridgeview | Illinois.
First American Bank | Carpentersville | Illinois.
United Community Bank | Chatham | Illinois.
Austin Bank of Chicago | Chicago | Illinois.
Burling Bank | Chicago | Illinois.
Amalgamated Bank of Chicago | Chicago | Illinois.
Covenant Bank | Chicago | Illinois.
Foster Bank | Chicago | Illinois.
New Century Bank | Chicago | Illinois.
First National Bank of Chillicothe | Chillicothe | Illinois.
State Bank of Countryside | Countryside | Illinois.
First Savings Bank | Danville | Illinois.
Clover Leaf Bank | Edwardsville | Illinois.
Midland States Bank | Effingham | Illinois.
Washington Savings Bank | Effingham | Illinois.
Union Savings Bank | Freeport | Illinois.
Central Bank Illinois | Geneseo | Illinois.
Bank of Gibson City | Gibson City | Illinois.
Northside Community Bank | Gurnee | Illinois.
Parkway Bank & Trust Company | Harwood Heights | Illinois.
North Central Bank | Hennepin | Illinois.
State Bank of Herscher | Herscher | Illinois.
Independence State Bank | Independence | Illinois.
The Farmers State Bank and Trust Company | Jacksonville | Illinois.
Bank of Kampsville | Kampsville | Illinois.
Kent Bank | Kent | Illinois.
First FS&LA of Kewanee | Kewanee | Illinois.
Midland Community Bank | Kincaid | Illinois.
Kinderhook State Bank | Kinderhook | Illinois.
Hometown National Bank | La Salle | Illinois.
La Salle State Bank | La Salle | Illinois.
Community Bank of Lemont | Lemont | Illinois.
Farmers State Bank of Fulton County | Lewistown | Illinois.
Logan County Bank | Lincoln | Illinois.
The Bank of Marion | Marion | Illinois.
Twin Oaks Savings Bank | Marseilles | Illinois.
Citizens Community Bank | Mascoutah | Illinois.
Middletown State Bank | Middleton | Illinois.
Blackhawk State Bank | Milan | Illinois.
First Farmers State Bank | Minier | Illinois.
I. H. Mississippi Valley Credit Union | Moline | Illinois.
First State Bank of Monticello | Monticello | Illinois.
Allied First Bank, SB | Naperville | Illinois.
The Leaders Bank | Oak Brook | Illinois.
Oxford Bank and Trust | Oak Lawn | Illinois.
The First National Bank of Ogden | Ogden | Illinois.
The First National Bank of Okawville | Okawville | Illinois.
Federated Bank | Onarga | Illinois.
George Washington Savings Bank | Orland Park | Illinois.
First National Bank of Ottawa | Ottawa | Illinois.
The Edgar County Bank and Trust Company | Paris | Illinois.
The State Bank of Pearl City | Pearl City | Illinois.
First Federal Savings and Loan Assoc. of Pekin | Pekin | Illinois.
Pekin National Bank | Pekin | Illinois.
Peru Federal Savings Bank | Peru | Illinois.
First National Bank in Pinckneyville | Pinckneyville | Illinois.
Murphy-Wall State Bank and Trust Company | Pinckneyville | Illinois.
State Street Bank & Trust Company | Quincy | Illinois.
Mercantile Trust and Savings Bank | Quincy | Illinois.
Bank of Quincy | Quincy | Illinois.
North County Savings Bank | Red Bud | Illinois.
RIA Federal Credit Union | Rock Island | Illinois.
State Bank of Saunemin | Saunemin | Illinois.
First Savanna Savings Bank | Savanna | Illinois.
Heritage Bank of Schaumburg | Schaumburg | Illinois.
Freedom Bank | Seaton | Illinois.
Farmers' & Traders' State Bank | Shabbona | Illinois.
First State Bank of Shannon-Polo | Shannon | Illinois.
Bank of Shorewood | Shorewood | Illinois.
Longview State Bank | Sidney | Illinois.
The First National Bank of Sparta | Sparta | Illinois.
Security Bank | Springfield | Illinois.
Illinois National Bank | Springfield | Illinois.
Sauk Valley Bank & Trust Company | Sterling | Illinois.
Stillman BancCorp, N.A | Stillman Valley | Illinois.
Centrue Bank | Streator | Illinois.
The National Bank & Trust Company of Sycamore | Sycamore | Illinois.
The American National Bank of DeKalb County | Sycamore | Illinois.
Citizens First State Bank | Walnut | Illinois.
The Hill Dodge Banking Company | Warsaw | Illinois.
State Bank of Waterloo | Waterloo | Illinois.
Edens Bank | Willmette | Illinois.
American Community Bank | Woodstock | Illinois.
First American Credit Union | Beloit | Wisconsin.
Jackson County Bank | Black River Falls | Wisconsin.
Dairyland State Bank | Bruce | Wisconsin.
State Bank of Cross Plains | Cross Plains | Wisconsin.
Pioneer Credit Union | Green Bay | Wisconsin.
AM Community Credit Union | Kenosha | Wisconsin.
Bank of Mauston | Mauston | Wisconsin.
Time Federal Savings Bank | Medford | Wisconsin.
M&I Marshall & Ilsley Bank | Milwaukee | Wisconsin.
National Bank of Commerce | Superior | Wisconsin.
Tomahawk Community Bank SSB | Tomahawk | Wisconsin.
Marine Bank | Wauwatosa | Wisconsin.
Bank of Wisconsin Dells | Wisconsin Dells | Wisconsin.

Federal Home Loan Bank of Des Moines—District 8
United Missouri Insurance Company | Phoenix | Arizona.
Security State Bank | Algona | Iowa.
Security State Bank | Anamosa | Iowa.
Walker State Bank | Bloomington | Iowa.
Farmers Trust and Savings Bank | Buffalo Center | Iowa.
Two Rivers Bank & Trust | Burlington | Iowa.
Iowa Community Credit Union | Cedar Falls | Iowa.
Linn Area Credit Union | Cedar Rapids | Iowa.
Cedar Rapids Bank and Trust Company | Cedar Rapids | Iowa.
United Security Savings Bank, F.S.B | Cedar Rapids | Iowa.
Bank Iowa | Clarinda | Iowa.
Clear Lake Bank and Trust Company | Clear Lake | Iowa.
Gateway State Bank | Clinton | Iowa.
Peoples Trust & Savings Bank | Clive | Iowa.
C US Bank | Cresco | Iowa.
Denver Savings Bank | Denver | Iowa.
DeWitt Bank & Trust Co | DeWitt | Iowa.
Premier Bank | Dubuque | Iowa.
Liberty Trust & Savings Bank | Durant | Iowa.
Farmers Trust & Savings Bank | Earling | Iowa.
Hardin County Savings Bank | Eldora | Iowa.
FreedomBank | Elkader | Iowa.
Bank Plus | Estherville | Iowa.
NorthStar Bank | Estherville | Iowa.
Libertyville Savings Bank | Fairfield | Iowa.
Fort Madison Bank & Trust Company | Fort Madison | Iowa.
Security Savings Bank | Gowrie | Iowa.
Midstates Bank, N.A | Harlan | Iowa.
Hills Bank and Trust Company | Hills | Iowa.
First State Bank | Ida Grove | Iowa.
Peoples Savings Bank | Indianola | Iowa.
Iowa Falls State Bank | Iowa Falls | Iowa.
Charter Bank | Johnston | Iowa.
Farmers Savings Bank | Keota | Iowa.
Kingsley State Bank | Kingsley | Iowa.
Kerndt Brothers Savings Bank | Lansing | Iowa.
Laurens State Bank | Laurens | Iowa.
State Bank of Ledyard | Ledyard | Iowa.
First State Bank | Lynnville | Iowa.
First National Bank of Manning | Manning | Iowa.
Valley Bank & Trust | Mapleton | Iowa.
Maquoketa State Bank | Maquoketa | Iowa.
Farmers Savings Bank | Marshalltown | Iowa.
Maynard Savings Bank | Maynard | Iowa.
Moorhead State Bank | Moorhead | Iowa.
Wayland State Bank | Mount Pleasant | Iowa.
Mount Vernon Bank and Trust Company | Mount Vernon | Iowa.
Community Bank | Muscatine | Iowa.
Community Bank of Oelwein | Oelwein | Iowa.
First National Bank Midwest | Oskaloosa | Iowa.
Guthrie County State Bank | Panora | Iowa.
Pocahontas State Bank | Pocahontas | Iowa.
Tri-Valley Bank | Randolph | Iowa.
Houghton State Bank | Red Oak | Iowa.
Farmers Savings Bank | Remsen | Iowa.
First State Bank | Riceville | Iowa.
Peoples Bank | Rock Valley | Iowa.
Union State Bank | Rockwell City | Iowa.
Rolfe State Bank | Rolfe | Iowa.
First Community Bank | Sidney | Iowa.
Keokuk County State Bank | Sigourney | Iowa.
South Story Bank & Trust | Slater | Iowa.
Citizens Savings Bank | Spillville | Iowa.
St. Ansgar State Bank | St. Ansgar | Iowa.
Central State Bank | State Center | Iowa.
Security State Bank | Sutherland | Iowa.
Templeton Savings Bank | Templeton | Iowa.
Victor State Bank | Victor | Iowa.
Washington State Bank | Washington | Iowa.
Federation Bank | Washington | Iowa.
The Watkins Savings Bank | Watkins | Iowa.
Citizens State Bank | Waukon | Iowa.
West Iowa Bank | West Bend | Iowa.
Fidelity Bank | West Des Moines | Iowa.
State Savings Bank | West Des Moines | Iowa.
GuideOne Mutual Insurance Company | West Des Moines | Iowa.
Farmers State Bank | Yale | Iowa.
Neighborhood National Bank | Alexandria | Minnesota.
First Commercial Bank | Bloomington | Minnesota.
First Farmers & Merchants State Bank | Brownsdale | Minnesota.
White Rock Bank | Cannon Falls | Minnesota.
Access Bank | Champlin | Minnesota.
State Bank of Cokato | Cokato | Minnesota.
Currie State Bank | Currie | Minnesota.
State Bank of Danvers | Danvers | Minnesota.
State Bank of Delano | Delano | Minnesota.
North Shore Bank of Commerce | Duluth | Minnesota.
Park State Bank | Duluth | Minnesota.
The Pioneer National Bank of Duluth | Duluth | Minnesota.
Voyager Bank | Eden Prairie | Minnesota.
First SecurityBank—Evansville | Evansville | Minnesota.
First Farmers & Merchants National Bank | Fairmont | Minnesota.
1st United Bank | Faribault | Minnesota.
First Farmers and Merchants State Bank of Grand Meadow | Grand Meadow | Minnesota.
Border State Bank | Greenbush | Minnesota.
Citizens State Bank of Hayfield | Hayfield | Minnesota.
Farmers State Bank of Hoffman | Hoffman | Minnesota.
Security State Bank of Howard Lake | Howard Lake | Minnesota.
Key Community Bank | Inver Grove Heights | Minnesota.
Landmark Community Bank, N.A | Isanti | Minnesota.
Kasson State Bank | Kasson | Minnesota.
First Security Bank—Lake Benton | Lake Benton | Minnesota.
Lake City Federal Bank | Lake City | Minnesota.
Lake Area Bank | Lindstrom | Minnesota.
Patriot Bank Minnesota | Lino Lakes | Minnesota.
Home State Bank | Litchfield | Minnesota.
Peoples State Bank of Madison Lake | Madison Lake | Minnesota.
Inter Savings Bank, fsb | Maple Grove | Minnesota.
Topline Federal Credit Union | Maple Grove | Minnesota.
EastBank | Minneapolis | Minnesota.
The Business Bank | Minnetonka | Minnesota.
First National Bank of Moose Lake | Moose Lake | Minnesota.
United Prairie Bank | Mountain Lake | Minnesota.
American Bank of the North | Nashwauk | Minnesota.
New Market Bank | New Market | Minnesota.
State Bank of New Prague | New Prague | Minnesota.
Community Security Bank | New Prague | Minnesota.
ProGrowth Bank | Nicollet | Minnesota.
Anchor Bank Heritage N.A | North St. Paul | Minnesota.
Lakes State Bank | Pequot Lakes | Minnesota.
Richfield-Bloomington Credit Union | Richfield | Minnesota.
Sterling State Bank | Rochester | Minnesota.
Premier Bank Rochester | Rochester | Minnesota.
Olmsted National Bank | Rochester | Minnesota.
BankWest | Rockford | Minnesota.
Citizens State Bank of Roseau | Roseau | Minnesota.
Rosemount National Bank | Rosemount | Minnesota.
BankVista | Sartell | Minnesota.
Jennings State Bank | Spring Grove | Minnesota.
Bremer Bank, N.A | St. Cloud | Minnesota.
Village Bank | St. Francis | Minnesota.
St. James Federal Savings and Loan Association | St. James | Minnesota.
First State Bank of St. Joseph | St. Joseph | Minnesota.
Great Northern Bank | St. Michael | Minnesota.
Affinity Plus Federal Credit Union | St. Paul | Minnesota.
City & County Credit Union | St. Paul | Minnesota.
The Nicollet County Bank of St. Peter | St. Peter | Minnesota.
The First National Bank of Starbuck | Starbuck | Minnesota.
Farmers State Bank of Trimont | Trimont | Minnesota.
The First National Bank of Walker | Walker | Minnesota.
Roundbank | Waseca | Minnesota.
Anchor Bank, National Association | Wayzata | Minnesota.
Welcome State Bank | Welcome | Minnesota.
Farmers State Bank of West Concord | West Concord | Minnesota.
Anchor Bank St. Paul, N.A | West St. Paul | Minnesota.
Ultima Bank Minnesota | Winger | Minnesota.
Flagship Bank Winsted | Winsted | Minnesota.
The RiverBank | Wyoming | Minnesota.
Citizens Bank of Amsterdam | Amsterdam | Missouri.
America's Community Bank | Blue Springs | Missouri.
Community State Bank of Missouri | Bowling Green | Missouri.
CBC Bank | Bowling Green | Missouri.
First Community Bank of the Ozarks | Branson | Missouri.
Cass Commercial Bank | Bridgeton | Missouri.
Hawthorn Bank | Clinton | Missouri.
The Citizens-Farmers Bank of Cole Camp | Cole Camp | Missouri.
First National Bank & Trust Company | Columbia | Missouri.
Meramec Valley Bank | Ellisville | Missouri.
New Era Bank | Fredericktown | Missouri.
Bank Star One | Fulton | Missouri.
The Central Trust Bank | Jefferson City | Missouri.
Exchange Bank of Northeast Missouri | Kahoka | Missouri.
Old American Insurance Company | Kansas City | Missouri.
Mazuma Credit Union | Kansas City | Missouri.
Town & Country Bank Midwest | La Belle | Missouri.
Pony Express Bank | Liberty | Missouri.
Macon-Atlanta State Bank | Macon | Missouri.
Bank of Mansfield | Mansfield | Missouri.
Regional Missouri Bank | Marceline | Missouri.
Nodaway Valley Bank | Maryville | Missouri.
Independent Farmers Bank | Maysville | Missouri.
City Bank & Trust Company of Moberly | Moberly | Missouri.
Heritage State Bank | Nevada | Missouri.
Bank of New Cambria | New Cambria | Missouri.
Bank of Old Monroe | Old Monroe | Missouri.
First Bank of the Lake | Osage Beach | Missouri.
The Bank of Otterville | Otterville | Missouri.
Southwest Community Bank | Ozark | Missouri.
Palmyra State Bank | Palmyra | Missouri.
Citizens Community Bank | Pilot Grove | Missouri.
Security Bank | Rich Hill | Missouri.
Community Bank of Missouri | Richmond | Missouri.
Legacy Bank & Trust Company | Rogersville | Missouri.
Citizens' Bank of Rogersville | Rogersville | Missouri.
Pulaski Bank | Saint Louis | Missouri.
Bank of Salem | Salem | Missouri.
The Merchants & Farmers Bank of Salisbury | Salisbury | Missouri.
Excel Bank | Sedalia | Missouri.
People's Bank of Seneca | Seneca | Missouri.
Empire Bank | Springfield | Missouri.
Liberty Bank | Springfield | Missouri.
Village Bank | Springfield | Missouri.
Royal Banks of Missouri | St. Louis | Missouri.
First Missouri Credit Union | St. Louis | Missouri.
Frontenac Bank | St. Louis | Missouri.
Safety National Casualty Corporation | St. Louis | Missouri.
First State Bank of St. Robert | St. Robert | Missouri.
Bank Star of the Bootheel | Steele | Missouri.
Community Bank of the Ozarks | Sunrise Beach | Missouri.
The Tipton Latham Bank, N.A | Tipton | Missouri.
United Bank of Union | Union | Missouri.
Farmers Bank of Northern Missouri, N.A | Unionville | Missouri.
First Central Bank | Warrensburg | Missouri.
Bank of Washington | Washington | Missouri.
Bank of Franklin County | Washington | Missouri.
West Plains Savings & Loan Association | West Plains | Missouri.
Great Plains National Bank | Belfield | North Dakota.
First Community Credit Union | Jamestown | North Dakota.
The First and Farmers Bank | Portland | North Dakota.
The Bank of Tioga | Tioga | North Dakota.
First International Bank & Trust | Watford City | North Dakota.
Peoples State Bank | De Smet | South Dakota.
Farmers State Bank | Marion | South Dakota.
Principal Mortgage Reinsurance Company | Sioux Falls | South Dakota.
Farmers State Bank | Stickney | South Dakota.

Federal Home Loan Bank of Dallas—District 9
South Bank | Huntsville | Alabama.
Bank of Gravett | Gravette | Arkansas.
Heber Springs State Bank | Heber Springs | Arkansas.
Capital Bank | Little Rock | Arkansas.
Bank of Eureka Springs | Eureka Springs | Arkansas.
First National Bank of Fort Smith | Fort Smith | Arkansas.
First National Bank | Hot Springs | Arkansas.
Hot Springs Bank & Trust | Hot Springs | Arkansas.
Bank of Lake Village | Lake Village | Arkansas.
Bank of the Ozarks | Little Rock | Arkansas.
First State Bank | Lonoke | Arkansas.
Arvest Bank | Lowell | Arkansas.
Union Bank of Mena | Mena | Arkansas.
Twin City Bank | North Little Rock | Arkansas.
Evolve Bank & Trust | Parkin | Arkansas.
Bank of Salem | Salem | Arkansas.
First Security Bank of Searcy | Searcy | Arkansas.
Simmons First Bank of Searcy | Searcy | Arkansas.
Bank of Truman | Truman | Arkansas.
Citizens Bank & Trust Company | Van Buren | Arkansas.
First Community Bank of Crawford County | Van Buren | Arkansas.
Fidelity National Bank | West Memphis | Arkansas.
Cameron State Bank | Lake Charles | Louisiana.
Fidelity Bank | Baton Rouge | Louisiana.
State Investors Bank | Metairie | Louisiana.
Globe Homestead Savings Bank | Metairie | Louisiana.
Home Federal Savings and Loan Association | Shreveport | Louisiana.
Citizens Bank and Trust Company of Vivian, LA, Inc | Vivian | Louisiana.
First Southern Bank | Columbia | Mississippi.
First Delta Federal Credit Union | Marks | Mississippi.
Bank of Jones County | Laurel | Mississippi.
Pioneer Bank | Roswell | New Mexico.
First National Bank of Santa Fe | Santa Fe | New Mexico.
New Mexico Bank & Trust | Albuquerque | New Mexico.
International Bank of Commerce—Brownsville | Brownsville | Texas.
American Bank, N.A | Corpus Christi | Texas.
Guaranty Bank | Dallas | Texas.
State Bank and Trust Company, Dallas | Dallas | Texas.
Park Cities Bank | Dallas | Texas.
The Bank & Trust | Del Rio | Texas.
Bank of the West | El Paso | Texas.
GECU | El Paso | Texas.
Falfurrias State Bank | Falfurrias | Texas.
Friona State Bank | Friona | Texas.
Amegy Bank of Texas, N.A | Houston | Texas.
OmniBank, N.A | Houston | Texas.
New Era Life Insurance Company | Houston | Texas.
The First National Bank of Hughes Springs | Hughes Springs | Texas.
International Bank of Commerce | Laredo | Texas.
Security State Bank | Littlefield | Texas.
Madisonville State Bank | Madisonville | Texas.
First State Bank | Maypearl | Texas.
McAllen National Bank | McAllen | Texas.
Rio National Bank | McAllen | Texas.
First National Bank | McGregor | Texas.
Independent Bank | McKinney | Texas.
Oglesby State Bank | Oglesby | Texas.
Interstate Bank, SSB | Perryton | Texas.
Cypress Bank, FSB | Pittsburg | Texas.
Benchmark Bank | Plano | Texas.
ViewPoint Bank | Plano | Texas.
Parkway Bank, N.A | Plano | Texas.
First National Bank in Quanah | Quanah | Texas.
First National Bank of Quitman | Quitman | Texas.
United Funeral Director Benefit Life Insurance Company | Richardson | Texas.
Peoples State Bank | Rocksprings | Texas.
Crockett National Bank | San Angelo | Texas.
Frost National Bank | San Antonio | Texas.
American Bank of Texas | Sherman | Texas.
Citizens Bank | Slaton | Texas.
First National Bank of Sonora | Sonora | Texas.
First National Bank | Spearman | Texas.
City National Bank of Sulphur Springs | Sulphur Springs | Texas.
Sundown State Bank | Sundown | Texas.
Citizens National Bank | Teague | Texas.
Southside Bank | Tyler | Texas.
First Victoria National Bank | Victoria | Texas.
International Bank of Commerce—Zapata | Zapata | Texas.
Texas Champion Bank | Alice | Texas.
First State Bank | Avinger | Texas.
First National Bank of Bellville | Bellville | Texas.
ValueBank Texas | Corpus Christi | Texas.
Capital Savings Bank, SSB | El Paso | Texas.
First National Bank of Eldorado | Eldorado | Texas.
First Bank Farmersville | Farmersville | Texas.
Woodhaven National Bank | Fort Worth | Texas.
United Central Bank | Garland | Texas.
Texas Bank | Henderson | Texas.
First National Bank of Hereford | Hereford | Texas.
First Lockhart National Bank | Lockhart | Texas.
Lone Star State Bank | Lone Star | Texas.
Community Bank | Longview | Texas.
Texas Star Bank, SSB | Lott | Texas.
City Bank | Lubbock | Texas.
Citizens State Bank | Miles | Texas.
First National Bank of Moody | Moody | Texas.
First State Bank | Paint Rock | Texas.

Federal Home Loan Bank of Topeka—District 10
First Bank of Avon | Avon | Colorado.
Canon National Bank | Canon City | Colorado.
Ent Federal Credit Union | Colorado Springs | Colorado.
Peoples National Bank Leadville | Leadville | Colorado.
The Citizens State Bank of Cortez | Cortez | Colorado.
Guaranty Bank and Trust Company | Denver | Colorado.
Colorado State Bank and Trust | Denver | Colorado.
Public Service Employees Credit Union | Denver | Colorado.
First Bank of Vail | Vail | Colorado.
Colorado Mountain Bank | Westcliffe | Colorado.
The Andover State Bank | Andover | Kansas.
Community State Bank | Coffeyville | Kansas.
The Condon NB of Coffeyville | Coffeyville | Kansas.
Conway Bank, N.A | Conway Springs | Kansas.
The City State Bank | Fort Scott | Kansas.
The Liberty Savings Association, FSA | Fort Scott | Kansas.
Citizens State Bank | Grainfield | Kansas.
The Haviland State Bank | Haviland | Kansas.
First Federal S&L Independence | Independence | Kansas.
First National Bank | Independence | Kansas.
MidAmerican Bank & Trust Company | Leavenworth | Kansas.
The FNB of LeRoy | Leroy | Kansas.
Kansas State Bank of Manhattan | Manhattan | Kansas.
Stockgrowers State Bank | Maple Hill | Kansas.
The Marion National Bank | Marion | Kansas.
Citizens State Bank of Marysville | Marysville | Kansas.
The Citizens State Bank | Miltonvale | Kansas.
Montezuma State Bank | Montezuma | Kansas.
The Citizens State Bank | Morland | Kansas.
Farmers and Merchants Bank of Mound City | Mound City | Kansas.
Kansas State Bank | Overbrook | Kansas.
Solutions Bank | Overland Park | Kansas.
1st Financial Bank | Overland Park | Kansas.
Bank of Palmer | Palmer | Kansas.
Farmers State Bank | Phillipsburg | Kansas.
First National Bank in Pratt | Pratt | Kansas.
Prescott State Bank | Prescott | Kansas.
Rose Hill Bank | Rose Hill | Kansas.
The Bennington State Bank | Salina | Kansas.
Astra Bank | Scandia | Kansas.
Security State Bank | Scott City | Kansas.
First National Bank of Scott City | Scott City | Kansas.
Centera Bank | Sublette | Kansas.
First Federal Savings & Loan Association of WaKeeney | WaKeeney | Kansas.
First National Bank of Wamego | Wamego | Kansas.
Kaw Valley State Bank & Trust Company | Wamego | Kansas.
The State Bank of Whiting | Whiting | Kansas.
Fidelity Bank | Wichita | Kansas.
The First National Bank of Bancroft | Bancroft | Nebraska.
DeWitt State Bank | DeWitt | Nebraska.
First National Bank and Trust of Fullerton | Fullerton | Nebraska.
Geneva State Bank | Geneva | Nebraska.
Equitable Bank | Grand Island | Nebraska.
Home FS&LA of Grand Island, Nebraska | Grand Island | Nebraska.
Harvard State Bank | Harvard | Nebraska.
Hershey State Bank | Hershey | Nebraska.
Nebraska National Bank | Kearney | Nebraska.
Platte Valley State Bank and Trust Company, Inc | Kearney | Nebraska.
Bank of Keystone | Keystone | Nebraska.
Home FS&LA of Nebraska | Lexington | Nebraska.
Security Federal Savings | Lincoln | Nebraska.
Lincoln Federal Savings Bank of Nebraska | Lincoln | Nebraska.
American First Credit Union | Lindsay | Nebraska.
First State Bank | Loomis | Nebraska.
Sherman County Bank | Loup City | Nebraska.
First National Bank Northeast | Lyons | Nebraska.
Madison County Bank | Madison | Nebraska.
The Bank of Madison | Madison | Nebraska.
Corn Growers State Bank | Murdock | Nebraska.
Murray State Bank | Murray | Nebraska.
Bank of Newman Grove | Newman Grove | Nebraska.
BankFirst | Norfolk | Nebraska.
Elkhorn Valley Bank & Trust | Norfolk | Nebraska.
Nebraskaland National Bank | North Platte | Nebraska.
First National Bank | North Platte | Nebraska.
Pender State Bank | Pender | Nebraska.
Midwest Bank, N.A | Pierce | Nebraska.
Town & Country Bank | Ravenna | Nebraska.
Commercial State Bank | Republican City | Nebraska.
Sidney Federal Savings & Loan Association | Sidney | Nebraska.
Dakota County State Bank | South Sioux City | Nebraska.
Springfield State Bank | Springfield | Nebraska.
Bank of Stapleton | Stapleton | Nebraska.
Tri Valley Bank | Talmage | Nebraska.
Tecumseh Federal Bank | Tecumseh | Nebraska.
First National Bank of Utica | Utica | Nebraska.
Oak Creek Valley Bank | Valparaiso | Nebraska.
Farmers State Bank | Wallace | Nebraska.
Commercial State Bank | Wausa | Nebraska.
Citizens National Bank | Wisner | Nebraska.
Cornerstone Bank, National Association | York | Nebraska.
First State Bank of Altus | Altus | Oklahoma.
66 Federal Credit Union | Bartlesville | Oklahoma.
AVB Bank | Broken Arrow | Oklahoma.
The Peoples National Bank of Checotah | Checotah | Oklahoma.
Cleo State Bank | Cleo Springs | Oklahoma.
Bank of Cordell | Cordell | Oklahoma.
Bank of Hydro | Hydro | Oklahoma.
The State Exchange Bank | Lamont | Oklahoma.
Armstrong Bank | Muskogee | Oklahoma.
First National Bank of Muskogee | Muskogee | Oklahoma.
Citizens State Bank | Okemah | Oklahoma.
First Enterprise Bank | Oklahoma. City | Oklahoma.
Union Bank | Oklahoma. City | Oklahoma.
Lakeside Bank of Salina | Salina | Oklahoma.
The Shattuck National Bank | Shattuck | Oklahoma.
The First National Bank of Texhoma | Texhoma | Oklahoma.
The Bank of the West | Thomas | Oklahoma.
Energy One Federal Credit Union | Tulsa | Oklahoma.
Grand Bank | Tulsa | Oklahoma.
NBC Oklahoma | Tulsa | Oklahoma.
First Bank & Trust Company | Wagoner | Oklahoma.
Canadian State Bank | Yukon | Oklahoma.

Federal Home Loan Bank of San Francisco—District 11
United Arizona Bank, N.A | Cave Creek | Arizona.
BankUSA N.A | Phoenix | Arizona.
Pacific Crest Bank | Agoura Hills | California.
Santa Lucia Bank, N.A | Atascadero | California.
Fremont Investment & Loan | Brea | California.
Vista Federal Credit Union | Burbank | California.
Bank of Marin | Corte Madera | California.
La Jolla Bank, F.S.B | Escondido | California.
Eastern International Bank | Los Angeles | California.
State Bank of India (California) | Los Angeles | California.
FAA First Federal Credit Union | Los Angeles | California.
InterBusiness Bank, N.A | Los Angeles | California.
United Labor Bank, F.S.B | Oakland | California.
Chevron Texaco Federal Credit Union | Oakland | California.
Wescom Central Credit Union | Pasadena | California.
1st United Service Credit Union | Pleasanton | California.
San Diego County Credit Union | San Diego | California.
California Bank & Trust | San Diego | California.
United Commercial Bank | San Francisco | California.
Citibank (West), FSB | San Francisco | California.
Luther Burbank Savings | Santa Rosa | California.
Community Banks of Northern California | Tracy | California.
NVB Business Bank | Woodland | California.
Redding Bank of Commerce | Yuba City | California.

Federal Home Loan Bank of Seattle—District 12
First Bank | Ketchikan | Alaska.
Central Pacific Bank | Honolulu | Hawaii.
Territorial Savings Bank | Honolulu | Hawaii.
First Bank of Idaho | Ketchum | Idaho.
Home Federal Bank | Nampa | Idaho.
American Bank | Bozeman | Montana.
Valley Bank of Helena | Helena | Montana.
LibertyBank | Eugene | Oregon.
Chetco Federal Credit Union | Harbor | Oregon.
West Coast Bank | Lake Oswego | Oregon.
PremierWest Bank | Medford | Oregon.
Northwest Community Credit Union | Springfield | Oregon.
Gunnison Valley Bank | Gunnison | Utah.
Centennial Bank | Ogden | Utah.
SummitOne CU | Ogden | Utah.
Zions First National Bank | Salt Lake City | Utah.
Mountain America Federal Credit Union | West Jordan | Utah.
Kitsap Credit Union | Bremerton | Washington.
Summit Bank | Burlington | Washington.
Venture Bank | Lacey | Washington.
Spokane Teachers Credit Union | Liberty Lake | Washington.
Cowlitz Bank | Longview | Washington.
Heritage Bank | Olympia | Washington.
South Sound Bank | Olympia | Washington.
Viking Bank | Seattle | Washington.
Shoreline Bank | Shoreline | Washington.
Wheatland Bank | Spokane | Washington.
Sound Banking Company | Tacoma | Washington.
TAPCO Credit Union | Tacoma | Washington.
Central Valley Bank, N.A | Toppenish | Washington.
Columbia Community Credit Union | Vancouver | Washington.
Banner Bank | Walla Walla | Washington.
Security First Bank | Cheyenne | Wyoming.
First National Bank & Trust | Powell | Wyoming.
Cowboy State Bank | Ranchester | Wyoming.
Bank of Wyoming | Thermopolis | Wyoming.

II. Public Comments

To encourage the submission of public comments on the community support performance of Bank members, on or before May 15, 2009, each Bank will notify its Advisory Council and nonprofit housing developers, community groups, and other interested parties in its district of the members selected for community support review in the 2008-09 fifth quarter review cycle. 12 CFR 944.2(b)(2)(ii). In reviewing a member for community support compliance, FHFA will consider any public comments it has received concerning the member. 12 CFR 944.2(d). To ensure consideration by FHFA, comments concerning the community support performance of members selected for the 2008-09 fifth quarter review cycle must be delivered to FHFA, either by hard-copy mail at the Federal Housing Finance Agency, Housing Mission and Goals, 1625 Eye Street, NW., Washington, DC 20006, or by electronic mail at LENORA.MORTON@FHFA.GOV on or before the June 15, 2009 deadline for submission of Community Support Statements.

Dated: April 27, 2009.
James B. Lockhart III,
Director, Federal Housing Finance Agency.

[FR Doc. E9-10011 Filed 4-30-09; 8:45 am]

BILLING CODE 8070-01-P